NEIGHBORHOOD REINVESTMENT CORPORATION

Neighborworks® America Regular Board of Directors Meeting; Sunshine Act

TIME AND DATE: 10 a.m., Thursday, January 10, 2008.

PLACE: 1325 G Street, NW., Suite 800, Boardroom, Washington, DC 20005.

STATUS: Open.

CONTACT PERSON FOR MORE INFORMATION: Erica Hall, Assistant Corporate Secretary, (202) 220-2376; ehall@nw.org.

AGENDA:

I. Call To Order.

II. Approval of the Minutes.

III. Summary Report of the Finance, Budget and Program Committee.

IV. Summary Report of the Audit Committee.

V. Summary Report of the Audit Committee.

VI. Summary Report of the Corporate Administration Committee.

VII. Summary Report of the Finance, Budget and Program Committee.

VIII. Summary Report of the Corporate Administration Committee.

IX. Summary Report of the Audit Committee.

X. Financial Report.

XI. Corporate Socrecard.

XII. Chief Executive Officer's Quarterly Management Report.

XIII. Appropriations Update.

XIV. Additional Appropriations—Mortgage Foreclosure Mitigation.

XV. Field Operations Presentation.

XVI. Adjournment.

Erica Hall,
Assistant Corporate Secretary.

[FR Doc. 08-73 Filed 1-8-08; 11:56 am]

BILLING CODE 7570-02-M